DEPARTMENT OF THE INTERIOR

Bureau of Land Management

[LLCO921000-L51100000-GA0000-LVEMC09CC005, COC-70615]

Notice of Competitive Coal Lease Sale, Colorado

AGENCY: Bureau of Land Management, Interior.

ACTION: Notice.

SUMMARY: Notice is hereby given that certain coal reserves in the Elk Creek East Tract described below in Gunnison County, Colorado, will be offered for competitive lease by sealed bid in accordance with the provisions of the Mineral Leasing Act of 1920, as amended.

DATES: The lease sale will be held at 10 a.m., May 15, 2012. The sealed bid must be submitted on or before 10 a.m., May 15, 2012.

ADDRESSES: The lease sale will be held in the Second Floor Conference Room of the Bureau of Land Management (BLM) Colorado State Office, 2850 Youngfield Street, Lakewood, Colorado 80215. Sealed bids must be submitted to the Cashier, BLM Colorado State Office, at the address given above.

FOR FURTHER INFORMATION CONTACT: Kurt Barton, Land Law Examiner, at 303-239-3714, or kbarton@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This coal lease sale is being held in response to a lease by application (LBA) filed by Oxbow Mining, LLC. The Federal coal reserves to be offered consist of all D seam reserves recoverable by underground mining methods in the following described lands located in Gunnison County, Colorado:

Sixth Principal Meridian

T. 13 S. R. 90 W.,

Sec. 3, lots 8, 9, and 16;

Sec. 4, lots 5 to 16, inclusive;

Sec. 5, lots 12, 13, 20, and 24.

Containing approximately 725.90 acres, more or less.

The tract contains an estimated 3.96 million tons of recoverable coal reserves. The underground minable coal is ranked as bituminous B coal. The estimated coal quality on an as-received basis for the seam is as follows:

D Seam:
British Thermal Unit (BTU) | 12,005 BTU/lb.
Volatile Matter | 34.72%
Moisture | 7.47
Fixed Carbon | 45.87
Sulfur Content | 0.67
Ash Content | 11.27

The tract will be leased to the qualified bidder of the highest cash amount provided that the high bid meets or exceeds the BLM's estimate of the fair market value of the tract. The minimum bid for the tract is $100 per acre or fraction thereof. The minimum bid is not intended to represent fair market value. The fair market value will be determined by the authorized officer after the sale.

The sealed bids should be sent by certified mail, return-receipt requested, or be hand delivered to the Cashier, BLM Colorado State Office, at the address given above and clearly marked “Sealed Bid for COC-70615 Coal Sale—Not to be opened before 10 a.m., May 15, 2012.” The cashier will issue a receipt for each hand-delivered bid. Bids received after 10 a.m., May 15, 2012, will not be considered. If identical high bids are received, the tying high bidders will be requested to submit follow-up sealed bids until a high bid is received. All tie-breaking sealed-bids must be submitted within 15 minutes following the sale official's announcement at the sale that identical high bids have been received.

Prior to lease issuance, the high bidder, if other than the applicant, must pay to the BLM the cost recovery fees in the amount of $10,347.10 in addition to all processing costs the BLM incurs after the date of this sale notice (43 CFR 3473.2).

A lease issued as a result of this offering will provide for payment of an annual rental of $3 per acre, or fraction thereof, and a royalty payable to the United States of 8 percent of the value of coal mined by underground methods.

Bidding instructions for the LBA tract offered and the terms and conditions of the proposed coal lease are included in the Detailed Statement of Lease Sale and available from the BLM Colorado State Office at the address above. Case file documents, COC-70615, are available for inspection at the BLM Colorado State Office Public Room.

Steven Hall,
Acting State Director.

[FR Doc. 2012-8686 Filed 4-10-12; 8:45 am]

BILLING CODE 4310-JB-P